FEDERAL COMMUNICATIONS COMMISSION

47 CFR Part 22

[WT Docket No. 04-435; FCC 07-47]

Amendment of the Commission's Rules To Facilitate the Use of Cellular Telephones and Other Wireless Devices Aboard Airborne Aircraft

AGENCY: Federal Communications Commission.

ACTION: Final rule, termination of proceeding.

SUMMARY: This document provides notice of the termination of the proceeding in WT Docket No. 04-435, involving the Commission's ban on the airborne use of cellular telephones as set out in the Commission's prohibition on airborne operation of cellular telephones rules.

DATES: Effective April 3, 2007.

FOR FURTHER INFORMATION CONTACT: Linda Chang, Mobility Division, Wireless Telecommunications Bureau, 202-418-1339, Linda.Chang@fcc.gov.

SUPPLEMENTARY INFORMATION: This is a summary of the Commission's Memorandum Opinion and Order, released April 3, 2007. The complete text of the Memorandum Opinion and Order is available for inspection and copying during business hours at the FCC Reference Information Center, Portals II, 445 12th St., SW., Room CY-A257, Washington, DC 20554. The complete text of this document also may be purchased from the Commission's copy contractor, Best Copy and Printing, Inc., 445 12th Street, SW., Room, CY-B402, Washington, DC 20554. The complete text may also be downloaded at: http://www.fcc.gov.

Synopsis of Memorandum Opinion and Order:

1. On December 15, 2004, the Commission adopted a Notice of Proposed Rulemaking (NPRM) at 70 FR 11916, March 10, 2005 in the above-captioned docket proposing to replace or relax its ban under § 22.925 of the Commission's rules on the use of 800 MHz cellular handsets on airborne aircraft. The NPRM explored several different options for allowing airborne use of wireless devices, including a proposal to remove the current ban on the airborne use of cellular phones. Given the lack of technical information in the record upon which the Commission may base a decision, it has determined at this time that this proceeding should be terminated.

2. In the NPRM, the Commission specifically requested technical comment, emphasizing that the ban on the airborne use of cell phones would not be removed without sufficient information regarding possible technical solutions. The NPRM also noted that the Federal Aviation Administration (FAA) prohibits the use of portable electronic devices (PEDs) on airborne aircraft, and that RTCA, Inc. (RTCA), a Federal Advisory Committee, is currently studying the effect of PEDs on aircraft navigation and safety at the request of the FAA. RTCA published findings in December 2006, and is expected to issue recommendations regarding airplane design and certification requirements in 2007.

3. The comments filed in this proceeding provide insufficient technical information that would allow the Commission to assess whether the airborne use of cellular phones may occur without causing harmful interference to terrestrial networks. Similarly, the December 2006 RTCA report does not provide data that would allow the Commission to evaluate the potential for interference between PED operations onboard airplanes and terrestrial-based wireless systems. Further, because it appears that airlines, manufacturers, and wireless providers are still researching the use of cell phones and other PEDs onboard aircraft, the Commission does not believe that seeking further comment at this juncture will provide the necessary technical information in the near term. Accordingly, the Commission concludes that this proceeding should be terminated. The Commission may, however, reconsider this issue in the future if appropriate technical data is available for its review.

Federal Communications Commission.
Marlene H. Dortch,
Secretary.

[FR Doc. E7-7791 Filed 4-24-07; 8:45 am]

BILLING CODE 6712-01-P